DEPARTMENT OF ENERGY

Federal Energy Regulatory Commission

[Docket No. ER00-1830-000, et al.]

El Segundo Power, LLC, et al.; Electric Rate and Corporate Regulation Filings

March 10, 2000.

Take notice that the following filings have been made with the Commission:

1. El Segundo Power, LLC

[Docket No. ER00-1830-000]

Take notice that on March 7, 2000, El Segundo Power, LLC (ESP), tendered for filing a proposed Non-Market Dispatch Service Tariff. The tariff provides for the dispatch of units of the ESP Facility by market participants in California to maintain reliable grid operation and other purposes and sets a rate for that service.

ESP requests that the notice requirements set forth in Section 35.3(a) be waived to the extent required to allow the tariff to become effective as of January 1, 2000.

Comment date: March 28, 2000, in accordance with Standard Paragraph E at the end of this notice.

2. Jersey Central Power & Light Company, Metropolitan Edison Company and Pennsylvania Electric Company

[Docket No. ER00-1817-000]

Take notice that on March 7, 2000, Jersey Central Power & Light Company, Metropolitan Edison Company and Pennsylvania Electric Company (d/b/a GPU Energy), tendered for filing an executed Service Agreement between GPU Energy and FPL Energy Power Marketing, Inc. (FPL ENERGY), dated March 6, 2000. This Service Agreement specifies that FPL ENERGY has agreed to the rates, terms and conditions of GPU Energy's Market-Based Sales Tariff (Sales Tariff) designated as FERC Electric Rate Schedule, Second Revised Volume No. 5. The Sales Tariff allows GPU Energy and FPL ENERGY to enter into separately scheduled transactions under which GPU Energy will make available for sale, surplus capacity and/or energy.

GPU Energy requests a waiver of the Commission's notice requirements for good cause shown and an effective date of March 6, 2000, for the Service Agreement.

GPU Energy has served copies of the filing on regulatory agencies in New Jersey and Pennsylvania.

Comment date: March 27, 2000, in accordance with Standard Paragraph E at the end of this notice.

3. California Independent System Operator Corporation

[Docket No. ER00-1821-000]

Take notice that on March 7, 2000, the California Independent System Operator Corporation (ISO), tendered for filing a Meter Service Agreement for Scheduling Coordinators between the ISO and Constellation Power Source, Inc., for acceptance by the Commission.

The ISO states that this filing has been served on Constellation Power Source, Inc. and the California Public Utilities Commission.

The ISO is requesting waiver of the 60-day notice requirement to allow the Meter Service Agreement to be made effective as of February 28, 2000.

Comment date: March 27, 2000, in accordance with Standard Paragraph E at the end of this notice.

4. California Independent System Operator Corporation

[Docket No. ER00-1822-000]

Take notice that on March 7, 2000, the California Independent System Operator Corporation, tendered for filing a Scheduling Coordinator Agreement between the ISO and Cargill-Alliant, LLC for acceptance by the Commission.

The ISO states that this filing has been served on Cargill-Alliant, LLC and the California Public Utilities Commission.

The ISO is requesting waiver of the 60-day notice requirement to allow the Scheduling Coordinator Agreement to be made effective as of February 28, 2000.

Comment date: March 28, 2000, in accordance with Standard Paragraph E at the end of this notice.

5. Jersey Central Power & Light Company, Metropolitan Edison Company and Pennsylvania Electric Company

[Docket No. ER00-1823-000]

Take notice that on March 7, 2000, Jersey Central Power & Light Company, Metropolitan Edison Company and Pennsylvania Electric Company (d/b/a GPU Energy), tendered for filing an executed Service Agreement between GPU Energy and DukeSolutions, Inc. (DUKESOLUTIONS), dated March 6, 2000. This Service Agreement specifies that DUKESOLUTIONS has agreed to the rates, terms and conditions of GPU Energy's Market-Based Sales Tariff (Sales Tariff) designated as FERC Electric Rate Schedule, Second Revised Volume No. 5. The Sales Tariff allows GPU Energy and DUKESOLUTIONS to enter into separately scheduled transactions under which GPU Energy will make available for sale, surplus capacity and/or energy.

GPU Energy requests a waiver of the Commission's notice requirements for good cause shown and an effective date of March 6, 2000, for the Service Agreement.

GPU Energy has served copies of the filing on regulatory agencies in New Jersey and Pennsylvania.

Comment date: March 28, 2000, in accordance with Standard Paragraph E at the end of this notice.

6. Jersey Central Power & Light Company, Metropolitan Edison Company and Pennsylvania Electric Company

[Docket No. ER00-1824-000]

Take notice that on March 7, 2000, Jersey Central Power & Light Company, Metropolitan Edison Company and Pennsylvania Electric Company (d/b/a GPU Energy), tendered an executed Service Agreement between GPU Energy and Potomac Electric Power Company (PEPCO), dated March 6, 2000. This Service Agreement specifies that PEPCO has agreed to the rates, terms and conditions of GPU Energy's Market-Based Sales Tariff (Sales Tariff) designated as FERC Electric Rate Schedule, Second Revised Volume No. 5. The Sales Tariff allows GPU Energy and PEPCO to enter into separately scheduled transactions under which GPU Energy will make available for sale, surplus capacity and/or energy.

GPU Energy requests a waiver of the Commission's notice requirements for good cause shown and an effective date of March 6, 2000, for the Service Agreement.

GPU Energy has served copies of the filing on regulatory agencies in New Jersey and Pennsylvania.

Comment date: March 28, 2000, in accordance with Standard Paragraph E at the end of this notice.

7. Detroit Edison Company

[Docket No. ER00-1826-000]

Take notice that on March 6, 2000, The Detroit Edison Company (Detroit Edison), tendered for filing Service Agreements (the Service Agreement) for Short-term Firm Point-to-Point Transmission Service under the Joint Open Access Transmission Tariff of Consumers Energy Company and Detroit Edison, FERC Electric Tariff No. 1, between Detroit Edison and CMS Marketing, Services and Trading Company, dated as of February 25, 2000. The parties have not engaged in any transactions under the Service Agreements prior to thirty days to this filing.

Detroit Edison requests that the Service Agreements be made effective as rate schedules as of March 28, 2000.

Comment date: March 27, 2000, in accordance with Standard Paragraph E at the end of this notice.

8. ANP Marketing Company

[Docket No. ER00-1828-000]

Take notice that on March 7, 2000, ANP Marketing Company (Marketing), tendered for filing pursuant to Rules 205 and 207 of the Commission's Rules of Practice and Procedure (18 CFR 385.205 and 385.207) a petition seeking waivers and blanket approvals under various regulations of the Commission, and an order accepting its FERC Electric Rate Schedule No. 1, to be effective on the date of the Commission's order on such petition.

Marketing intends to engage in electric power and energy transactions as a marketer and a broker. In transactions where Marketing purchases power, including capacity and related services from electric utilities, qualifying facilities, and independent power producers, and resells such power to other purchasers, Marketing will be functioning as a marketer. In Marketing's marketing transactions, Marketing proposes to charge rates mutually agreed upon by the parties. In transactions where Marketing does not take title to the electric power and/or energy, Marketing's role will be limited to that of a broker. Marketing is not in the business of generating or transmitting electric power, and does not currently have or contemplate acquiring title to any electric power generation or transmission facilities.

FERC Electric Rate Schedule No. 1 provides for the sale of energy and capacity at agreed prices.

Comment date: March 28, 2000, in accordance with Standard Paragraph E at the end of this notice.

9. Southwest Power Pool, Inc.

[Docket No. ER00-1829-000]

Take notice that on March 7, 2000, Southwest Power Pool, Inc. (SPP), tendered for filing three executed service agreements for firm point-to-point transmission service under the SPP Tariff with Tenaska Power Services Company (Tenaska).

SPP requests effective dates for these service agreements of January 1, 2002, January 2, 2003, and January 1, 2004, respectively, which is the date service is to commence under each of the three agreements.

Copies of this filing were served upon Tenaska and Entergy Power Marketing Corporation (Entergy). Entergy has filed a complaint concerning the subject service agreements in Docket No. EL00-46 which SPP is answering concurrently with this filing.

Comment date: March 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-6599 Filed 3-16-00; 8:45 am]

BILLING CODE 6717-01-P